DEPARTMENT OF AGRICULTURE

National Agricultural Library

Agricultural Research Service

Notice of Intent To Renew a Currently Approved Information Collection

AGENCY: National Agricultural Library, Agricultural Research Service, USDA.

ACTION: Notice and request for comments.

SUMMARY: In accordance with the Paperwork Reduction Act of 1995 (Pub. L. 104-13) and Office of Management and Budget (OMB) regulations, dated August 29, 1995), this notice announces the Agricultural Research Service's (ARS) intention to request an extension of a currently approved information collection, Information Collection for Document Delivery Services at the National Agricultural Library (NAL), which expires November 30, 2018.

DATES: Comments must be submitted on or before July 30, 2018.

ADDRESSES: Send comments to: USDA, ARS, NAL, Digitization and Access Branch, 10301 Baltimore Avenue, Room 305-D, Beltsville, Maryland 20705-2351.

FOR FURTHER INFORMATION CONTACT: Kay Derr, Librarian, telephone: 301-504-5879; email: kay.derr@ars.usda.gov.

SUPPLEMENTARY INFORMATION:

Title: Information Collection for Document Delivery Services.

OMB Number: 0518-0027.

Expiration Date of Approval: November 30, 2018.

Type of Request: To extend a currently approved information collection process.

Abstract: In its role as both a preeminent agricultural research library and a national library of the United States, NAL (part of the USDA's ARS) provides loans and copies of materials from its collections to libraries and other institutions and organizations. NAL follows applicable copyright laws and interlibrary loan guidelines, standards, codes, and practices when providing loans and copies and charges a fee, if applicable, for this service. To request a loan or copy, institutions must provide a formal request to NAL using either NAL's web-based online request system or an interlibrary loan request system such as the Online Computer Library Center or the National Library of Medicine's Docline. Information in these requests includes the name, mailing address, email address, and telephone number of the party requesting the material. The requestor must also provide a statement acknowledging copyright compliance, bibliographic information for the material they are requesting, and the maximum dollar amount they are willing to pay for the material. The collected information is used to deliver the material to the requestor, bill for and track payment of applicable fees, monitor the return of loaned material to NAL, identify and locate the requested material in NAL collections, and determine whether the requesting party consents to the fees charged by NAL.

Estimate of Burden: Average 1.00 minute per response.

Description of Respondents: Respondents to the collection of information are those libraries, institutions, or organizations that request interlibrary loans or copies of material in the NAL collections. Each respondent must furnish the information for each loan or copying request.

Estimated Number of Respondents: 590.

Frequency of Responses: Average 7 per respondent.

Estimated Total Annual Burden on Respondents: 69 hours.

Comments: Comments are invited on (a) whether the proposed collection of information is necessary for the proper performance of the functions of the Agency, including whether the information will have a practical utility; (b) the accuracy of the Agency's estimate of the burden of the proposed collection of information including the validity of the methodology and assumptions used; (c) ways to enhance the quality, utility, and clarity of the information to be collected; and (d) ways to minimize the burden of the collection of information on those who are to respond, such as through the use of appropriate automated, electronic, mechanical, or other technological collection techniques. Comments may be sent to Kay Derr at the address listed above within 60 days of the date of publication. All responses to this notice will be summarized and included in the request for OMB approval. All comments will also become a matter of public record.

Dated: May 17, 2018.
Chavonda Jacobs-Young,
Administrator, Agricultural Research Service.

[FR Doc. 2018-11582 Filed 5-30-18; 8:45 am]

BILLING CODE 3410-03-P